NATIONAL SCIENCE FOUNDATION

Notice of Availability and Notice of Public Meeting for the Draft Environmental Impact Statement (DEIS) for the Sacramento Peak Observatory, Sunspot, New Mexico

AGENCY: National Science Foundation.

ACTION: Notice of availability and notice of public meeting.

SUMMARY: The National Science Foundation (NSF) has made available for public review and comment the Draft Environmental Impact Statement (DEIS) for Sacramento Peak Observatory. This DEIS has been prepared for the NSF to evaluate the potential environmental effects of proposed operational changes due to funding constraints for the Sacramento Peak Observatory in Sunspot, New Mexico. The DEIS was prepared in compliance with the National Environmental Policy Act (NEPA) of 1969. Consultation under Section 106 of the National Historic Preservation Act (NHPA) is being conducted concurrent with the NEPA process.

DATES: NSF will accept comments on the DEIS for 45 days following publication of this Notice of Availability. Comments may be submitted verbally during the public meeting scheduled for February 28, 2018 (see details in SUPPLEMENTARY INFORMATION) or in writing. Substantive comments will be considered in a Final Environmental Impact Statement (FEIS).

ADDRESSES: You may submit written comments by either of the following methods:

Email to: envcomp-AST-sacpeak@nsf.gov, with subject line “Sacramento Peak Observatory.”

Mail to: Elizabeth Pentecost, RE: Sacramento Peak Observatory, National Science Foundation, 2415 Eisenhower Avenue, Suite W9152, Alexandria, VA 22314.

FOR FURTHER INFORMATION CONTACT: For further information regarding the EIS process or Section 106 consultation, contact: Elizabeth Pentecost, National Science Foundation, Division of Astronomical Sciences, 2415 Eisenhower Avenue, Suite W9152, Alexandria, VA 22314; Telephone: (703) 292-4907; email: epenteco@nsf.gov.

DEIS Information: The DEIS, as well as information about the public meeting, is posted at: www.nsf.gov/AST. A copy of the DEIS will be available for review at the following libraries: Michael Nivison Public Library, 90 Swallow Place, Cloudcroft, NM 88317, Alamogordo Public Library, 920 Oregon Avenue, Alamogordo, NM 88310.

SUPPLEMENTARY INFORMATION: Sacramento Peak Observatory is located in Sunspot, New Mexico, within the Lincoln National Forest in the Sacramento Mountains. Established by the U.S. Air Force via a memorandum of agreement with the U.S. Forest Service in 1950, the facility was transferred to NSF in 1976. NSF and the U.S. Forest Service executed a land use agreement (signed in 1980) to formalize this transition and the continued use of the land for the observatory. The primary research facility in operation at the Sacramento Peak site is the Richard B. Dunn Solar Telescope (DST), currently managed by the National Solar Observatory (NSO). The DST is a high-spatial resolution optical/infrared solar telescope. In addition to its own operations, the Sacramento Peak Observatory supplies water for the nearby Apache Point Observatory (APO).

The NSF Directorate for Mathematical and Physical Sciences, Division of Astronomical Sciences, through a series of academic community-based reviews, has identified the need to divest several facilities from its portfolio in order to deliver the best performance on the emerging and key science technologies of the present decade and beyond. In 2012, NSF's Division of Astronomical Sciences (AST's) portfolio review committee, under the category of solar facilities stated that, “AST and NSO should plan for the continued use of the Dunn Solar Telescope (DST) as a world-class scientific observatory, supporting the solar physics community, to within two years of ATST [now the Daniel K. Inouye Solar Telescope, DKIST] first light.” DKIST is being constructed in Hawai'i and is expected to begin operations in 2020. In 2016, in response to this recommendation, NSF completed a feasibility study to inform and define options for the site's future disposition that would involve significantly decreasing or eliminating NSF funding of the Sacramento Peak Observatory. NSF issued a Notice of Intent to prepare an EIS on July 5, 2016, held scoping meetings on July 21, 2016, and held a 30-day public comment period that closed on August 5, 2016.

Alternatives to be evaluated in the EIS which may be refined through public input, with preliminary proposed alternatives that include the following:

• Continued science- and education-focused operations by interested parties with reduced NSF-funding.

• Transition to partial operations by interested parties with reduced NSF funding.

• Mothballing of facilities (suspension of operations in a manner such that operations could resume efficiently at some future date).

• Demolition and site restoration.

• No-Action Alternative: continued NSF investment for science-focused operations.

No final decisions will be made regarding the proposed changes to operations at Sacramento Peak Observatory prior to issuance of a Final Environmental Impact Statement, and, subsequently, a Record of Decision for the Proposed Action.

Public Meeting: A public meeting to address the DEIS will take place in Alamogordo, New Mexico with notification of the time and location published in the local newspapers, as follows:

• Public Meeting: February 28, 2018, at 6:30 p.m. to 8:30 p.m., New Mexico Museum of Space History, 3198 State Route 2001, Alamogordo, New Mexico 88310, Telephone: (575) 437-2840.

The meeting will be transcribed by a court reporter. Please contact NSF at least one week in advance of the meeting if you would like to request special accommodations (i.e., sign language interpretation, etc.)

Dated: February 2, 2018.
Suzanne H. Plimpton,
Reports Clearance Officer, National Science Foundation.

[FR Doc. 2018-02488 Filed 2-7-18; 8:45 am]

BILLING CODE 7555-01-P